DEPARTMENT OF THE INTERIOR

Bureau of Reclamation

[INT-FES-02-34]

Reach 11 Recreation Master Plan, Central Arizona Project, Arizona

AGENCY: Bureau of Reclamation, Interior.

ACTION: Notice of availability of a final environmental impact statement (EIS).

SUMMARY: Pursuant to the National Environmental Policy Act (NEPA) of 1969, as amended, and the Council on Environmental Quality's Regulations for Implementing the Procedural Provisions of NEPA, the Bureau of Reclamation (Reclamation), in conjunction with the City of Phoenix (City), has prepared a final EIS for a Recreation Master Plan for the Reach 11 Recreation Area (Reach 11), located in the northeast portion of the city of Phoenix, Maricopa County, Arizona. The final EIS considers the proposed approval and implementation of a recreation master plan for a 1,500-acre area adjacent to the Central Arizona Project (CAP) canal, between Cave Creek and Scottsdale roads. The land is owned by Reclamation and is managed for recreational purposes by the City's Parks and Recreation Department (PRD) under a 1986 Recreation Land Use Agreement (RLUA). The final EIS describes the anticipated environmental effects associated with a new recreation master plan for Reach 11. A proposed action and two action alternative master plans have been considered in the EIS. A No Action Alternative is also described, which provides a baseline for comparing the impacts of the three action alternatives.

DATES: No decision will be made on the proposed action until 30 days after the release of the final EIS. After the 30-day waiting period, Reclamation will complete a Record of Decision (ROD).

ADDRESSES: Copies of the final EIS are available for public inspection and review at the locations listed in the Supplementary Information section below.

FOR FURTHER INFORMATION CONTACT: Ms. Sandra Eto, Bureau of Reclamation, Phoenix Area Office (PXAO-1500), PO Box 81169, Phoenix, AZ 85069-1169, telephone 602-216-3857.

SUPPLEMENTARY INFORMATION: The final EIS considers the effects of approving a new Recreation Master Plan for Reach 11. Reach 11 is managed for recreational purposes by the PRD, consistent with the 1986 RLUA pursuant to Title 28, Federal Water Project Recreation Act of 1965 (Pub. L. 89-72, as amended). The current master plan was approved in 1987. The City and Reclamation determined a comprehensive planning effort for a new master plan should be carried out, due to the major population growth that has occurred and future growth anticipated for the area. This effort included conducting a recreation needs assessment to inventory existing facilities in the vicinity of Reach 11, and evaluating needs based upon established park standards, existing capacity, and public interest in or opposition to various recreation uses. The purpose and need for a new Recreation Master Plan is to optimize recreational use of Reach 11 based upon the needs of the City and community, while ensuring compatibility with the primary flood control function of Reach 11. A master plan would accommodate and respect the full range of current and future recreation demands of this growing area of Phoenix, Arizona. The final EIS considers three alternative master plan scenarios. All three provide a level of development established for a City district park. Under the Proposed Action, high-demand recreation needs would be balanced with passive recreation uses and maintenance of quality habitat areas. Two other alternative action alternatives are considered: One that would provide less active recreation-oriented development and emphasizes passive recreation-oriented activities (Alternative 1), and one that would maximize development of active-recreation oriented recreation facilities (Alternative 2). The No Action Alternative assumes the existing 1987 master plan, (which does not meet current PRD district park standards), would continue to be implemented. The alternative ultimately selected and implemented is expected to be developed in phases by PRD, as funding becomes available.

The draft EIS was issued November 9, 2001. Responses to comments received from interested organizations and individuals on the draft EIS are addressed in the final EIS.

Locations for public inspection and review of the final EIS:

• Department of the Interior, Natural Resources Library, 1849 C Street, NW, Washington, DC 20240.

• Bureau of Reclamation, Denver Office Library, Building 67, Room 167, Denver Federal Center, 6th and Kipling, Denver CO 80225.

• Arizona Department of Library Archives and Public Records, 1700 West Washington St., Phoenix AZ 85007.

• North Central Regional County Library, 17811 N. 32nd St., Phoenix AZ 85032.

• Phoenix Public Library (Burton Barr Central), 1221 N. Central Ave., Phoenix AZ 85004.

• Government Document Service, Arizona State University, Tempe, AZ 85281.

• Arizona State University—West Library, 4701 W. Thunderbird Rd., Glendale AZ 85306.

After release of the final EIS and the end of the 30-day waiting period, Reclamation will complete a Record of Decision (ROD). The ROD will state the action that will be implemented and will discuss all factors leading to the decision.

Dated: Ocotber 11, 2002.
Lorri Gray,
Acting Regional Director, Lower Colorado Region.

[FR Doc. 02-28509 Filed 11-7-02; 8:45 am]

BILLING CODE 4310-MN-P